FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011426-053.

Title: West Coast of South America Discussion Agreement.

Parties: Compania Chilena de Navigacion Interoceanica, S.A.; Compania Sud Americana de Vapores, S.A.; Frontier Liner Services, Inc.; Hamburg-Süd; Interocean Lines, Inc.; King Ocean Services Limited, Inc.; Mediterranean Shipping Company, SA; Seaboard Marine Ltd.; South Pacific Shipping Company, Ltd. (dba Ecuadorian Line); and Trinity Shipping Line.

Filing Party: Wayne R. Rohde, Esq.; Cozen O'Conner; 1627 I Street, NW., Suite 1100; Washington, DC 20006-4007.

Synopsis: The amendment excludes Peru from the membership of four of the parties.

Agreement No.: 011741-019.

Title: U.S. Pacific Coast-Oceania Agreement.

Parties: A.P. Moller-Maersk A/S; ANL Singapore PTE Ltd./CMA CGM S.A.; Hamburg-Sud; and Hapag-Lloyd AG.

Filing Party: Wayne R. Rohde, Esq.; Cozen O'Connor; 1627 I Street, NW. Suite 1100; Washington, DC 20006.

Synopsis: The amendment deletes A.P. Moller-Maersk A/S as a party to the agreement. The amendment also adjusts the vessel provision and allocation provision of the agreement, adjusts the scope of the two service strings operated under the agreement, adjusts the maximum size of the vessels which can be deployed by the parties, and restates the agreement.

Agreement No.: 012196.

Title: MSC/CSAV Ecuador—North Europe Vessel Sharing Agreement.

Parties: Compania Sud Americana de Vapores, S.A. and MSC Mediterranean Shipping Company, SA.

Filing Party: Walter H. Lion, McLaughlin & Stern, LLP; 260 Madison Avenue, New York, NY 10016.

Synopsis: The agreement authorizes CSAV and MSC to cross-charter space to each other in the trade from ports in North Europe to ports on the U.S. East Coast on the one hand, and from ports on the U.S. East Coast to Panama and Ecuador, on the other hand.

Dated: March 8, 2013.
By Order of the Federal Maritime Commission.
Karen V. Gregory,
Secretary.

[FR Doc. 2013-05778 Filed 3-12-13; 8:45 am]

BILLING CODE 6730-01-P